ENVIRONMENTAL PROTECTION AGENCY

40 CFR Part 33

[EPA-HQ-OA-2006-0278; FRL-9946-26-OA]

RIN 2090-AA40

Participation by Disadvantaged Business Enterprises in Procurements Under EPA Financial Assistance Agreements

AGENCY: Environmental Protection Agency.

ACTION: Proposed rule.

SUMMARY: Environmental Protection Agency (EPA) is proposing to amend the Disadvantaged Business Enterprise (DBE) program. These proposed amendments will improve the practical utility of the program, minimize burden, and clarify requirements that have been the subject of questions from recipients of EPA financial assistance and from disadvantaged business enterprises. These revisions are in accordance with the requirements of the Federal laws that govern the EPA DBE program.

DATES: Comments must be received on or before August 29, 2016.

ADDRESSES: Submit your comments, identified by Docket ID No. EPA-HQ-OA-2006-0278, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Teree Henderson, Office of the Administrator, Office of Small Business Programs (mail code: 1230A), Environmental Protection Agency, 1200 Pennsylvania Ave. NW., Washington, DC 20460; telephone number: 202-566-2222; fax number: 202-566-0548; email address: henderson.teree@epa.gov.

SUPPLEMENTARY INFORMATION:

Why is EPA issuing this proposed rule?

The Agency has published a direct final rule in the “Rules and Regulations” section of this Federal Register, approving the DBE program revisions, because EPA views the revisions as noncontroversial and anticipates no adverse comment. The Agency provided reasons for the approval and additional supplementary information in the preamble to the direct final rule. If EPA receives no adverse comment, the Agency will not take further action on this proposed rule. If EPA receives adverse comment, the Agency will withdraw the direct final rule and it will not take effect. The EPA would then address all public comments in any subsequent final rule based on this proposed rule. The EPA does not intend to institute a second comment period on this action.

Any parties interested in commenting must do so at this time. For further information, please contact the persons in the FOR FURTHER INFORMATION CONTACT section of this document.

List of Subjects in 40 CFR Part 33

Environmental protection, Grant programs.

Dated: July 15, 2016.
Gina McCarthy,
Administrator.

[FR Doc. 2016-17509 Filed 7-27-16; 8:45 am]

BILLING CODE 6560-50-P